DEPARTMENT OF VETERANS AFFAIRS

Veterans' Family, Caregiver, and Survivor Advisory Committee, Notice of Meeting

The Department of Veterans Affairs (VA) gives notice under the Federal Advisory Committee Act (FACA) that the Veterans' Family, Caregiver, and Survivor Advisory Committee will meet virtually on September 10, 2020. The public teleconference and access code is (404) 397-1496 access code 1997625835#. The meeting session will begin and end as follows:

Date | Time
September 10, 2020 | 1:00 p.m. to 4:00 p.m. EST.

The meeting is open to the public.

The purpose of the Committee is to advise the Secretary of Veterans Affairs on matters related to: The need of Veterans' families, caregivers, and survivors across all generations, relationships, and Veterans status; the use of VA care, benefits and memorial services by Veterans' families, caregivers, and survivors, and opportunities for improvements to the experience using such services; VA policies, regulations, and administrative requirements related to the transition of Servicemembers from the Department of Defense (DoD) to enrollment in VA that impact Veterans' families, caregivers, and survivors; and factors that influence access to, quality of, and accountability for services, benefits and memorial services for Veterans' families, caregivers, and survivors.

On September 10, the agenda will include opening remarks from the Committee Chair and the Chief Veterans Experience Officer. There will be presentations from the two subcommittee Chairs (Care, Benefits, Memorial and Service Resources; and, Research, Partnership, Community Service and Outreach) on topics for consideration by the Committee for their next report.

Individuals wishing to share information with the Committee should contact Ms. Toni Bush Neal (Alternate Designated Federal Official) at VEOFACA@va.gov to submit a 1-2 page summary of their comments for inclusion in the official meeting record.

Any member of the public seeking additional information should contact Betty Moseley Brown (Designated Federal Official) at Betty.MoseleyBrown@va.gov or 210-392-2505.

Dated: August 6, 2020.
Jelessa M. Burney,
Federal Advisory Committee Management Officer.

[FR Doc. 2020-17478 Filed 8-10-20; 8:45 am]

BILLING CODE 8320-01-P